DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Mammal Stranding Reports/Marine Mammal Rehabilitation Disposition Report.

OMB Control Number: 0648-0178.

Form Number(s): 89-864, 89-878.

Type of Request: Regular submission (renewal of a currently approved information collection).

Number of Respondents: 400.

Average Hours per Response: 30 minutes.

Burden Hours: 2,400.

Needs and Uses: This notice is for renewal of this information collection. Under the Marine Mammal Protection Act (MMPA) Section 402, the Secretary of Commerce is responsible for collecting information on strandings, which the Secretary will compile and analyze, by region, to monitor species, numbers, conditions of marine mammals stranded, and causes of their illnesses or deaths. The Secretary is also responsible for collection of information on other life history and reference level data, including marine mammal tissue analyses, that would allow comparison of the causes of illness and deaths in stranded marine mammals with physical, chemical, and biological environmental parameters. Responsibility for collection and analysis of the information has been delegated to the National Oceanic and Atmospheric Administration's (NOAA's) National Marine Fisheries Service (NMFS).

A small fraction of marine mammals are alive when stranded and are deemed appropriate candidates for rehabilitation and a Marine Mammal Rehabilitation Disposition Report is completed for each one. This report provides NMFS with information on the disposition of animals brought in for rehabilitation, types of disease and other health related issues upon admission, types of and response to medical treatment, and the number of animals released. This information assists NMFS in tracking marine mammals that are transferred to captive display facilities following a determination of non-releasability and in the monitoring of rehabilitation facilities and release protocols.

Affected Public: State, local, and tribal government; not-for-profit institutions.

Frequency: On occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: October 7, 2010.
Gwellnar Banks,
Management Analyst, Office of the Chief Information Officer.

[FR Doc. 2010-25789 Filed 10-13-10; 8:45 am]

BILLING CODE 3510-22-P